DEPARTMENT OF ENERGY

Federal Energy Regulatory Commission

[Docket No. EC02-49-000, et al.]

The Cleveland Electric Illuminating Company, et al.; Electric Rate and Corporate Regulation Filings

May 28, 2002.

The following filings have been made with the Commission. The filings are listed in ascending order within each docket classification.

1. The Cleveland Electric Illuminating Company, The Toledo Edison Company, FirstEnergy Ventures Corp., Bay Shore Power Company and NRG Northern Ohio Generating LLC, NRG Ashtabula Generating LLC, NRG Lakeshore Generating LLC

[Docket No. EC02-49-000]

The Commission issued the following text as a Notice of Filing (Notice) on February 11, 2002. Because the February 11, 2002 Notice was not published in the Federal Register, the Commission is reissuing the original Notice with a new due date for comments. Parties that have already filed comments, interventions, and protests need not do so again.

Take notice that on February 1, 2002, The Cleveland Electric Illuminating Company, The Toledo Edison Company, First Energy Ventures Corp., and Bay Shore Power Company (collectively, FirstEnergy Companies) and NRG Northern Ohio Generating LLC, (NRG Northern Ohio), NRG Ashtabula Generating LLC, and NRG Lakeshore Generating LLC (collectively the NRG Companies) (the FirstEnergy Companies and NRG Companies together, Applicants) filed with the Federal Energy Regulatory Commission (Commission) a joint application requesting authorization pursuant to Section 203 of the Federal Power Act for FirstEnergy Companies to transfer certain jurisdictional facilities associated with four electric generating stations, which are located in Ohio and total 2,535 MW, to the NRG Companies and passive participant owner lessors, which will in turn enter into long-term leases with NRG Northern Ohio. Additionally, pursuant to a Transition Power Purchase Agreement, FirstEnergy Solutions Corp., a wholly owned subsidiary of FirstEnergy Corp., engaged in wholesale and retail power marketing, will have the ability to schedule up to 92 percent of the capacity of the Facilities (excluding certain combustion turbines) through 2005. Comment Date: June 5, 2002.

1. KeySpan Ravenswood, Inc.

[Docket No. ER99-2387-001]

Take notice that on May 23, 2002, KeySpan-Ravenswood, Inc. (Ravenswood) tendered for filing its triennial market power analysis in compliance with the Federal Energy Regulatory Commission Order granting it market based rate authority in Docket No. ER99-2387-000 on May 27, 1999.

Comment Date: June 13, 2002.

2. Panda-Rosemary Limited Partnership

[Docket Nos. QF89-241-002 EL02-90-000]

Take notice that on May 17, 2002, Panda-Rosemary Limited Partnership (Panda-Rosemary), filed with the Federal Energy Regulatory Commission (Commission) a Request for Waiver of QF Operating and Efficiency Standards and Application for Recertification as a Qualifying Cogeneration Facility pursuant to 292.205” and 292.207(b) of the Commission's regulations. No determination has been made that the submittal constitutes a complete filing.

The facility is a nominal 180-MW, natural gas fired, topping cycle cogeneration facility (the Facility) located in Roanoke Rapids, North Carolina. The Facility is interconnected with the North Carolina Power system and power from the Facility is sold to North Carolina Power.

Comment Date: June 27, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-13789 Filed 5-31-02; 8:45 am]

BILLING CODE 6717-01-P